NATIONAL AERONAUTICS AND SPACE ADMINISTRATION

[Notice: 24-056]

Name of Information Collection: NASA Applied Remote Sensing Training Program Follow-Up Survey

AGENCY: National Aeronautics and Space Administration (NASA).

ACTION: Notice of information collection.

SUMMARY: NASA, as part of its continuing effort to reduce paperwork and respondent burden, under the Paperwork Reduction Act, invites the general public and other Federal agencies to take this opportunity to comment on proposed and/or continuing information collections.

DATES: Comments are due by November 6, 2024.

ADDRESSES: Written comments and recommendations for this information collection should be sent within 30 days of publication of this notice to www.reginfo.gov/public/do/PRAMain. Find this particular information collection by selecting “Currently under 30-day Review—Open for Public Comments” or by using the search function.

FOR FURTHER INFORMATION CONTACT: Requests for additional information or copies of the information collection instrument(s) and instructions should be directed to NASA PRA Clearance Officer, Stayce Hoult, NASA Headquarters, 300 E Street SW, JC0000, Washington, DC 20546, phone 256-714-8575, or email hq-ocio-pra-program@mail.nasa.gov.

SUPPLEMENTARY INFORMATION:

I. Abstract

All participants of Applied Remote Sensing Training program (ARSET) trainings will be invited to complete an online survey. Participation is optional and no personal identifiers are collected to ensure confidentiality. The follow-up survey will be used to assess participant perceptions of the long-term benefits of training in earth observation tools and data, improve understanding how remote sensing data and tools are used by stakeholders, identify barriers to data and tool use, and gather suggestions for training improvement, including future training needs.

This data collection supports the Capacity Building Program of NASA's Earth Action component of the Earth Science Division. NASA is committed to effectively performing the Agency's communication function in accordance with the Space Act Section 203 (a)(3) to “provide for the widest practicable and appropriate dissemination of information concerning its activities and the results thereof,” and to enhance public understanding of, and participation in, the nation's aeronautical and space program in accordance with the NASA Strategic Plan.

II. Methods of Collection

Online survey.

III. Data

Title: NASA Applied Remote Sensing Training Program Survey.

OMB Number: 2700-xxxx.

Type of review: New collection of information.

Affected Public: Individuals.

Estimated Annual Number of Activities: 16.

Estimated Number of Respondents per Activity: 70.

Annual Responses: 1120.

Estimated Time per Response: 17 minutes.

Estimated Total Annual Burden Hours: 317 hours.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Stayce Hoult,
PRA Clearance Officer, National Aeronautics and Space Administration.

[FR Doc. 2024-23104 Filed 10-4-24; 8:45 am]

BILLING CODE 7510-13-P